DEPARTMENT OF ENERGY

Federal Energy Regulatory Commission

Combined Notice of Filings #1

Take notice that the Commission received the following electric rate filings:

Docket Numbers: ER10-2847-001; ER10-2818-001; ER10-2806-001; ER10-1948-003.

Applicants: TransAlta Centralia Generation LLC, TransAlta Energy Marketing Corporation, TransAlta Energy Marketing (U.S.) Inc., FPL Energy Wyoming, LLC.

Description: Supplement to December 31, 2013 Triennial Market Power Analysis in Northwest Region and Notice of Change in Status of the Transalta MBR Entities.

Filed Date: 3/27/14.

Accession Number: 20140327-5192.

Comments Due: 5 p.m. ET 4/17/14.

Docket Numbers: ER14-1001-001.

Applicants: Southern California Edison Company.

Description: Revised LGIA and Distrib Service Agmt with Coram California Development, L.P. to be effective 12/15/2013.

Filed Date: 3/28/14.

Accession Number: 20140328-5005.

Comments Due: 5 p.m. ET 4/18/14.

Docket Numbers: ER14-1343-001.

Applicants: Bargain Energy, LLC.

Description: Bargain Energy MBR Supplement—Clone to be effective 4/1/2014.

Filed Date: 3/28/14.

Accession Number: 20140328-5000.

Comments Due: 5 p.m. ET 4/18/14.

Docket Numbers: ER13-1487-002.

Applicants: Quantum Auburndale Power, LP.

Description: Quantum Auburndale Power, LP Revised Electric Tariff Filing to be effective 3/29/2014.

Filed Date: 3/28/14.

Accession Number: 20140328-5071.

Comments Due: 5 p.m. ET 4/18/14.

Docket Numbers: ER13-1487-003; ER13-1489-002; ER13-1488-001.

Applicants: Quantum Auburndale Power, LP, Quantum Lake Power, LP, Quantum Pasco Power, LP.

Description: Notification of Non-Material Change in Status of the Quantum Entities.

Filed Date: 3/26/14.

Accession Number: 20140326-5183.

Comments Due: 5 p.m. ET 4/16/14.

Docket Numbers: ER13-1489-003.

Applicants: Quantum Lake Power, LP.

Description: Notification of Non-Material Change in Status of Quantum Lake Power, LP.

Filed Date: 3/26/14.

Accession Number: 20140326-5184.

Comments Due: 5 p.m. ET 4/16/14.

Docket Numbers: ER14-1603-000.

Applicants: CCES LLC.

Description: CCES Notice of Cancellation—Clone to be effective 3/28/2014.

Filed Date: 3/27/14.

Accession Number: 20140327-5174.

Comments Due: 5 p.m. ET 4/17/14.

Docket Numbers: ER14-1604-000.

Applicants: Southern California Edison Company.

Description: 2014 TACBAA Update to be effective 6/1/2014.

Filed Date: 3/28/14.

Accession Number: 20140328-5002.

Comments Due: 5 p.m. ET 4/18/14.

Docket Numbers: ER14-1605-000.

Applicants: Nevada Power Company.

Description: Notice of Termination of Dynamic Scheduling Agreement of Nevada Power Company.

Filed Date: 3/27/14.

Accession Number: 20140327-5190.

Comments Due: 5 p.m. ET 4/17/14.

Docket Numbers: ER14-1606-000.

Applicants: Cosima Energy, LLC.

Description: Cosima Energy MBR Tariff Filing to be effective 5/1/2014.

Filed Date: 3/28/14.

Accession Number: 20140328-5098.

Comments Due: 5 p.m. ET 4/18/14.

Docket Numbers: ER14-1607-000.

Applicants: PJM Interconnection, L.L.C.

Description: Queue W1-072A_AT5; Original SA No. 3796 & Cancellation of SA No. 3380 to be effective 2/26/2014.

Filed Date: 3/28/14.

Accession Number: 20140328-5145.

Comments Due: 5 p.m. ET 4/18/14.

Docket Numbers: ER14-1608-000.

Applicants: Public Service Electric and Gas Company, PJM Interconnection, L.L.C.

Description: PSE&G submits revisions to OATTAtt H-10A re BLC Project to be effective 5/28/2014.

Filed Date: 3/28/14.

Accession Number: 20140328-5168.

Comments Due: 5 p.m. ET 4/18/14.

Take notice that the Commission received the following public utility holding company filings:

Docket Numbers: PH14-8-000.

Applicants: Sycamore Gas, Inc.

Description: Sycamore Gas, Inc. submits FERC 65-A Exemption Notification.

Filed Date: 3/27/14.

Accession Number: 20140327-5198.

Comments Due: 5 p.m. ET 4/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2014.
Nathaniel J. Davis, Sr.,
Deputy Secretary.

[FR Doc. 2014-07538 Filed 4-3-14; 8:45 am]

BILLING CODE 6717-01-P